DEPARTMENT OF COMMERCE

National Oceanic and Atmospheric Administration

50 CFR Part 622

RIN 0648-BD81

Fisheries of the Caribbean, Gulf of Mexico and South Atlantic; Amendment 8 to the Fishery Management Plan for Coral, Coral Reefs, and Live/Hardbottom Habitats of the South Atlantic Region

AGENCY: National Marine Fisheries Service (NMFS), National Oceanic and Atmospheric Administration (NOAA), Commerce.

ACTION: Notice of availability; request for comments.

SUMMARY: The South Atlantic Fishery Management Council (Council) has submitted Amendment 8 to the Fishery Management Plan for Coral, Coral Reefs, and Live/Hardbottom Habitats of the South Atlantic Region (FMP) (Amendment 8) for review approval, and implementation by NMFS. Amendment 8 proposes actions to expand portions of the northern and western boundaries of the Oculina Bank habitat area of particular concern (HAPC) (Oculina Bank HAPC) and allow transit through the Oculina Bank HAPC by fishing vessels with rock shrimp onboard; modify vessel monitoring systems (VMS) requirements for rock shrimp fishermen transiting through the Oculina Bank HAPC; expand a portion of the western boundary of the Stetson Reefs, Savannah and East Florida Lithotherms, and Miami Terrace Deepwater Coral HAPC (CHAPC) (Stetson-Miami Terrace CHAPC), including modifications to the shrimp fishery access area 1; and expand a portion of the northern boundary of the Cape Lookout Lophelia Banks Deepwater CHAPC (Cape Lookout CHAPC).

DATES: Written comments must be received on or before July 21, 2014.

ADDRESSES: You may submit comments, identified by “NOAA-NMFS-2014-0065”, by any one of the following methods:

• Electronic submissions: Submit all electronic public comments via the Federal e-Rulemaking Portal. Go to www.regulations.gov/#!docketDetail;D=NOAA-NMFS-2014-0065, click the “Comment Now!” icon, complete the required fields, and enter or attach your comments.

• Mail: Submit written comments to Karla Gore, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of Amendment 8 may be obtained from the Southeast Regional Office Web site at http://sero.nmfs.noaa.gov. Amendment 8 includes a draft environmental assessment, a Regulatory Flexibility Act analysis, a Regulatory Impact Review, and a Fishery Impact Statement.

FOR FURTHER INFORMATION CONTACT: Karla Gore, telephone: 727-824-5305.

SUPPLEMENTARY INFORMATION: The Magnuson-Stevens Fishery Conservation and Management Act (Magnuson-Stevens Act) requires each regional fishery management council to submit any fishery management plan or amendment to NMFS for review and approval, partial approval, or disapproval. The Magnuson-Stevens Act also requires that NMFS, upon receiving a plan or amendment, publish an announcement in the Federal Register notifying the public that the plan or amendment is available for review and comment.

Background

Recent scientific exploration has identified areas of high relief features and hard bottom habitat outside the boundaries of the existing HAPCs and CHAPCs. During its 2011 October meeting, the Council's Coral Advisory Panel (AP) (Coral AP) recommended the Council revisit the boundaries of the Oculina Bank HAPC, Stetson-Miami Terrace CHAPC, and the Cape Lookout CHAPC to incorporate areas of additional deepwater coral habitat that were previously uncharacterized. The Council reviewed the Coral AP recommendations for expansion of these areas and associated VMS analyses of rock shrimp fishing activity, and approved the measures for public scoping through Comprehensive Ecosystem-Based Amendment 3. The Council subsequently moved these measures into Amendment 8. The Council's Coral, Habitat, Deepwater Shrimp, and Law Enforcement APs worked collectively to refine the Coral AP recommendations and provided input to the Council on expanding the boundaries of the HAPC and CHAPCs and establishing a transit provision in the Oculina Bank HAPC.

The Council approved the amendment during its September 2013 meeting and submitted Amendment 8 to NMFS for agency review under procedures of the Magnuson-Stevens Act.

Management Measures Contained in Amendment 8

Amendment 8 would expand the boundaries of the Oculina Bank HAPC, the Stetson-Miami Terrace CHAPC, and the Cape Lookout CHAPC to protect deepwater coral ecosystems. The amendment would also allow transit through the Oculina HAPC by fishing vessels with rock shrimp onboard. In addition, Amendment 8 would modify the VMS requirements for rock shrimp fishermen.

Expansion of Oculina Bank HAPC

The Oculina Bank HAPC was first established in 1984, with implementation of the FMP (49 FR 29607, August 22, 1984). Within the Oculina Bank HAPC, it is unlawful to use a bottom longline, bottom trawl, dredge, pot or trap, and if aboard a fishing vessel, it is unlawful to anchor, use an anchor and chain, or use a grapple and chain. Additionally, it is unlawful to fish for or possess rock shrimp in or from the Oculina Bank HAPC on board a fishing vessel. Currently, the Oculina Bank HAPC is a 289-square mile (749-square km) area. If implemented, Amendment 8 would increase the size of the Oculina HAPC by 405.42 square miles (1,050 square km), for a total area of 694.42 square miles (1,798.5 square km) and would extend these prohibitions to the larger area (except for a limited transit provision described below) and increase the protection of coral.

Transit Provision Through Oculina Bank

Amendment 8 proposes a transit provision to allow fishing vessels with rock shrimp onboard to transit the Oculina Bank HAPC under limited circumstances. To be considered to be in transit, vessels would be required to maintain a minimum speed of 5 knots, maintain a VMS ping (signal) rate of 1 ping per 5 minutes, and a vessel's gear would be required to be appropriately stowed (i.e., doors and nets would be required to be out of water and onboard the deck or below the deck of the vessel). This transit provision would allow rock shrimp fishermen with rock shrimp onboard their vessel to access additional fishing grounds in less time using less fuel than if the fishermen were required to travel around the Oculina Bank HAPC.

Expansion of the Stetson-Miami Terrace CHAPC and the Cape Lookout CHAPC

The Stetson-Miami Terrace CHAPC and the Cape Lookout CHAPC were established in 2010 through the Comprehensive Ecosystem-Based Amendment 1 to protect deepwater coral ecosystems (75 FR 35330, June 22, 2010). Within the CHAPCs, including the Stetson-Miami Terrace and Cape Lookout CHAPCs, it is unlawful to use a bottom longline, trawl (mid-water or bottom), dredge, pot or trap, and if aboard a fishing vessel, it is unlawful to anchor, use an anchor and chain, or use a grapple and chain. Additionally, it is unlawful to fish for or possess coral in or from the CHAPCs on board a fishing vessel. Amendment 8 would increase the size of the Stetson-Miami Terrace CHAPC by 490 square mile (1,269 square km), for a total area of 24,018 square miles (62,206 square km), and increase the size of the Cape Lookout CHAPC by 10 square miles (26 square km), for a total area of 326 square miles (844 square km), and would extend the gear prohibitions to the larger area to increase protection of deepwater coral ecosystems. The expansion of the Stetson-Miami Terrace CHAPC would also provide royal red shrimp fishermen a new zone adjacent to the existing shrimp access area A (proposed to be renamed in the rulemaking associated with Amendment 8 to be shrimp access area 1) within which they can haul back fishing gear without drifting into an area where their gear is prohibited. Thus, this shrimp fishery access area would be expanded to include the new haul-back zone if this rule is implemented.

A proposed rule that would implement measures outlined in Amendment 8 has been drafted. In accordance with the Magnuson-Stevens Act, NMFS is evaluating Amendment 8 to determine whether it is consistent with the FMP, the Magnuson-Stevens Act, and other applicable law. If the determination is affirmative, NMFS will publish the proposed rule in the Federal Register for public review and comment.

Consideration of Public Comments

The Councils submitted Amendment 8 for Secretarial review, approval, and implementation. Comments received by July 21, 2014, whether specifically directed to the amendment or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: May 15, 2014.
Emily H. Menashes,
Acting Director, Office of Sustainable Fisheries, National Marine Fisheries Service.

[FR Doc. 2014-11622 Filed 5-19-14; 8:45 am]

BILLING CODE 3510-22-P